NUCLEAR REGULATORY COMMISSION

[NRC-2012-0282]

Preoperational Testing of Onsite Electric Power Systems To Verify Proper Load Group Assignments, Electrical Separation, and Redundancy

AGENCY: Nuclear Regulatory Commission.

ACTION: Draft regulatory guide; request for comment.

SUMMARY: The U.S. Nuclear Regulatory Commission (NRC or the Commission) is issuing for public comment draft regulatory guide (DG), DG-1294, “Preoperational Testing of On-Site Electric Power Systems to Verify Proper Load Group Assignments, Electrical Separation, and Redundancy.” DG-1294 is proposed Revision 1 of RG 1.41, dated March 1973. This revision expands the scope of the guide to encompass preoperational testing of electrical power systems used to meet current Station Blackout regulations, time requirements for startup and alignment of emergency power sources, and testing requirements for facilities licensed under 10 CFR Part 52.

DATES: Submit comments by January 31, 2013. Comments received after this date will be considered if it is practical to do so, but the NRC is able to ensure consideration only for comments received on or before this date. Although a time limit is given, comments and suggestions in connection with items for inclusion in guides currently being developed or improvements in all published guides are encouraged at any time.

ADDRESSES: You may access information and comment submissions related to this document, which the NRC possesses and is publicly available, by searching on http://www.regulations.gov under Docket ID NRC-2012-0282. You may submit comments by the following methods:

• Federal rulemaking Web site: Go to http://www.regulations.gov and search for Docket ID NRC-2012-0282. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Thomas Kendzia, U.S. Nuclear Regulatory Commission, Office of New Reactors, Division of Construction Inspection and Operational Programs, Washington, DC 20555-0001, telephone: 301-415-8155 or email Thomas.Kendzia@nrc.gov.

SUPPLEMENTARY INFORMATION:

I. Accessing Information and Submitting Comments

A. Accessing Information

Please refer to Docket ID NRC-2012-0282 when contacting the NRC about the availability of information regarding this document. You may access information related to this document, which the NRC possesses and is publicly available, by any of the following methods:

• Federal Rulemaking Web Site: Go to http://www.regulations.gov and search for Docket ID NRC-2012-0282.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft regulatory guide is available electronically under ADAMS Accession Number ML12228A589. The regulatory analysis may be found in ADAMS under Accession No. ML12228A591.

Regulatory guides are not copyrighted, and NRC approval is not required to reproduce them.

• NRC's PDR: You may examine and purchase copies of public documents at the NRC's PDR, Room O1-F21, One White Flint North, 11555 Rockville Pike, Rockville, Maryland 20852.

B. Submitting Comments

Please include Docket ID NRC-2012-0282 in the subject line of your comment submission, in order to ensure that the NRC is able to make your comment submission available to the public in this docket.

The NRC cautions you not to include identifying or contact information in comment submissions that you do not want to be publicly disclosed in your comment submission. The NRC posts all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a draft guide in the NRC's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide entitled “Preoperational Testing of On-Site Electric Power Systems to Verify Proper Load Group Assignments, Electrical Separation, and Redundancy” is temporarily identified by its task number, DG-1294. The DG-1294 is proposed Revision 1 of Regulatory Guide 1.41, “Preoperational Testing of On-Site Electric Power Systems to Verify Proper Load Group Assignments, Electrical Separation, and Redundancy” dated March 1973.

Regulatory Guide 1.41 was developed to provide guidance on preoperational testing of on-site electrical power systems important to safety for load group assignments, electrical separation, and redundancy. The guide was first issued in 1973 and has not been revised despite multiple revisions to the underlying regulations. Since 1973 the Commission has amended its regulations for loss of all alternating current power (Station Blackout) and loss of large areas of the plant due to explosions or fire, and has established a new combined (construction and operating) licensing process under 10 CFR part 52.

This regulatory guide is being revised for three reasons: (1) To expand the scope of the guide to encompass preoperational tests for the electrical power systems used to meet the regulatory requirements addressing Station Blackout and loss of large areas of the plant due to explosions or fire; (2) to expand the scope of the guide to encompass testing the ability to meet time requirements for startup and alignment for use of electric power sources used to meet the regulatory requirements addressing Station Blackout and loss of large areas of the plant due to explosions or fire and (3) to update the guide references and address facilities licensed under 10 CFR part 52.

III. Backfitting and Issue Finality

As discussed in the “Implementation” section of this regulatory guide, the NRC has no current intention to impose this regulatory guide on holders of current operating licenses or combined licenses. Accordingly, the issuance of this regulatory guide would not constitute “backfitting” as defined in 10 CFR 50.109(a)(1) of the Backfit Rule or be otherwise inconsistent with the applicable issue finality provisions in 10 CFR part 52.

This regulatory guide may be applied to applications for operating licenses and combined licenses docketed by the NRC as of the date of issuance of the final regulatory guide, as well as future applications for operating licenses and combined licenses submitted after the issuance of the regulatory guide. Such action would not constitute backfitting as defined in 10 CFR 50.109(a)(1) or be otherwise inconsistent with the applicable issue finality provision in 10 CFR part 52, inasmuch as such applicants or potential applicants are not within the scope of entities protected by the Backfit Rule or the relevant issue finality provisions in Part 52.

Dated at Rockville, Maryland, this 15th day of November, 2012.
For the Nuclear Regulatory Commission.
Thomas H. Boyce,
Chief, Regulatory Guide Development Branch, Division of Engineering, Office of Nuclear Regulatory Research.

[FR Doc. 2012-28564 Filed 11-23-12; 8:45 am]

BILLING CODE 7590-01-P